DEPARTMENT OF THE INTERIOR

Bureau of Ocean Energy Management

[MMAA104000]

Notice of Rescheduled Public Meetings for the Draft Programmatic Environmental Impact Statement for the Outer Continental Shelf (OCS) Oil and Gas Leasing Program: 2017-2022

AGENCY: Bureau of Ocean Energy Management (BOEM), Interior.

ACTION: Rescheduling of public meetings.

SUMMARY: BOEM is announcing the dates, locations, and times of rescheduled meetings in Washington, DC; Houston, TX; and New Orleans, LA, to elicit comments on the OCS Oil and Gas Leasing Program 2017-2022 Draft Programmatic Environmental Impact Statement (Draft Programmatic EIS), which has been prepared by BOEM to support the Proposed OCS Oil and Gas Leasing Program for 2017-2022 (2017-2022 Program).

DATES: See “Public Meetings” in SUPPLEMENTARY INFORMATION.

FOR FURTHER INFORMATION CONTACT: Jill Lewandowski, Ph.D., Bureau of Ocean Energy Management, 45600 Woodland Road VAM-OEP, Sterling, VA 20166; Dr. Lewandowski may also be reached by telephone at (703) 787-1703.

SUPPLEMENTARY INFORMATION: Draft Programmatic EIS Availability: Persons interested in reviewing the Draft Programmatic EIS can download it on the Internet at www.boemoceaninfo.com, or may contact BOEM at the address provided above to request a paper copy or a CD/ROM version. Please specify if you wish a CD/ROM or paper copy. If neither is specified, a CD/ROM containing the Draft Programmatic EIS will be provided.

Library Availability: The Draft Programmatic EIS will also be available for review at libraries in states adjacent to the proposed lease sales. These libraries are listed at the Web site www.boemoceaninfo.com.

Public Meetings: Meetings in Washington, DC, Houston, TX, and New Orleans, LA, to elicit comments on the Draft Programmatic EIS will be held as follows:

• April 18, 2016, DoubleTree by Hilton New Orleans Airport, 2150 Veterans Memorial Blvd., Kenner, LA 70062; 2-6 p.m.; parking available at garage adjacent to hotel at a discounted rate. Validation tickets will be provided to guests upon request at the hotel's registration desk.

• April 20, 2016, Hyatt Regency Houston, 1200 Louisiana Street, Houston, TX 77002; 3-7 p.m.; validated valet parking at hotel.

• April 26, 2016, Marriott Metro Center, 775 12th Street NW., Washington, DC 20005; 3-7 p.m.; valet parking at no charge to meeting attendees up to 8 hours.

All other public meetings were held on the dates and at the locations previously announced, with the exception of the public meeting in Kotzebue, Alaska. The meeting in Kotzebue, Alaska was rescheduled from March 29, 2016, and held on April 1, 2016, because of hazardous travel conditions due to the eruption of the Pavlof Volcano in Alaska.

Additional information: For additional information on the Draft Programmatic EIS and instructions on how to submit comments, please see the Federal Register notice published on March 18, 2016 (81 FR 14885).

Dated: April 5, 2016.
Abigail Ross Hopper,
Director, Bureau of Ocean Energy Management.

[FR Doc. 2016-08244 Filed 4-7-16; 8:45 am]

BILLING CODE 4310-MR-P